DEPARTMENT OF COMMERCE

International Trade Administration

[A-844-802]

Agreement Suspending the Antidumping Investigation on Uranium From Uzbekistan

AGENCY: Import Administration, International Trade Administration, U.S. Department of Commerce.

ACTION: Notice of Price Determination on Uranium from Uzbekistan.

SUMMARY: Pursuant to Sections IV.A(2) and IV.C.1 of the agreement suspending the antidumping investigation on uranium from Uzbekistan, as amended, (antidumping suspension agreement on uranium from Uzbekistan), the Department of Commerce (the Department) calculated a price for uranium of $10.05/pound of U3O8 for the relevant period, as appropriate. This price will be used, as appropriate, to implement to Sections IV.A(2) and IV.C.1 of the Uzbekistan agreement.

EFFECTIVE DATE: April 1, 2000.

FOR FURTHER INFORMATION CONTACT: James Doyle or Marlene Hewitt, Office of Antidumping/Countervailing Duty Enforcement—Group III, Import Administration, International Trade Administration, U.S. Department of Commerce, 14th Street & Constitution Ave., NW, Washington, DC 20230; telephone: (202) 482-0159 or (202) 482-6412 respectively.

Price Calculation

Background

Sections IV.A(2) and IV.C.1 of the antidumping suspension agreement on uranium from Uzbekistan prescribe that the Department issue its determined market price on April 1, 2000, and use it to determine the quota applicable to the above referenced provisions of Uzbekistan's agreement during the period of October 1, 1999, to March 31, 2000. Consistent with the February 22, 1993 letter of interpretation, the Department provided interested parties with the applicable preliminary price determination on March 27, 2000. No interested party submitted comments.

Calculation Summary

Sections IV.A(2) and IV.C.1 of the agreement specify how the components of the market price are to be determined. In order to determine the spot market price, the Department utilized the monthly average of the Uranium Price Information System Spot Price Indicator (UPIS SPI) and the weekly average of the Uranium Exchange Spot Price (Ux Spot). In order to determine the long-term market price, the Department utilized a simple average of the UPIS U.S. Base Price for the months in the period as no useable contract information was submitted.

The Department's letters to market participants provided a contract summary sheet and directions requesting the submitter to report its best estimate of the future price of merchandise to be delivered in accordance with the contract delivery schedules (in U.S. dollars per pound U3O8 equivalent). As all reported information had already been reported to UPIS or was for spot contracts or was for out-of-period contracts or used inherently speculative market-pricing, none were useable for the Department's calculation.

Weighting

The Department used the average spot and long-term volumes of U.S. utility and domestic supplier purchases, as reported by the Energy Information Administration (EIA) to weight the spot and long-term components of the observed price. We have used the purchase data from the period 1995-1998. During this period, the spot market accounted for 76.61 percent of total purchases, and the long-term market for 23.39 percent.

As in previous determinations, the Department used the EIA's Uranium Industry Annual to determine the available average spot and long-term volumes of U.S. utility purchases. We have updated the data to reflect the period 1995 through 1998. The EIA has withheld certain business proprietary contract data from the public versions of the Uranium Industry Annual 1995, Uranium Industry Annual 1996, Uranium Industry Annual 1997 and the Uranium Industry Annual 1998. The EIA, however, provided all business proprietary data to the Department and the Department has used it to update its weighting calculation.

Calculation Announcement

The Department determined, using the methodology and information described above, that the observed market price is $10.05. This reflects an average spot market price of $9.70, weighted at 76.61 percent, and an average long-term contract price of $11.23, weighted at 23.39 percent. This price will be used, as appropriate, to determine quota availability for purposes of Sections IV.A(2) and IV.A. of the antidumping suspension agreement on uranium from Uzbekistan.

Dated: April 10, 2000.
Joseph A. Spetrini,
Deputy Assistant Secretary AD/CVD Enforcement Group III.

[FR Doc. 00-9559 Filed 4-14-00; 8:45 am]

BILLING CODE 3510-DS-P